ENVIRONMENTAL PROTECTION AGENCY

[EPA-HQ-OPP-2008-0046; FRL-8365-3]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before July 7, 2008.

ADDRESSES: Submit your comments, identified by docket identification (ID) number EPA-HQ-OPP-2008-0046 and the pesticide petition number (PP) of interest, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to EPA-HQ-OPP-2008-0046 the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 8E7325 | EPA-HQ-OPP-2008-0362
PP 8E7341 | EPA-HQ-OPP-2008-0361
PP 7F7279 | EPA-HQ-OPP-2008-0327
PP 8F7335 | EPA-HQ-OPP-2008-0322
PP 8F7343 | EPA-HQ-OPP-2008-0360
PP 8E7325 | EPA-HQ-OPP-2008-0362
PP 8E7332 | EPA-HQ-OPP-2008-0346
PP 8E7333 | EPA-HQ-OPP-2008-0059
PP 7F7311 | EPA-HQ-OPP-2008-0093

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

A. New Tolerance

1. PP 8E7325. (EPA-HQ-OPP-2008-0362). The Interregional Research Project No. 4 (IR-4), 500 College Rd. East, Suite 201 W, Princeton, NJ 08540, proposes to establish a tolerance for residues of the fungicide quinoxyfen, 5,7-dichloro-4-(4-fluorophenoxy)quinoline in or on food commodities artichoke, globe at 1.4 parts per million (ppm); fruit, stone, group 12 at 0.70 ppm; squash, winter at 0.20 ppm; pumpkin at 0.20 ppm; and gourd, edible at 0.20 ppm. A practical analytical method is available to monitor and enforce the tolerances of quinoxyfen residues in crops. The analytical method uses a capillary gas chromatography and mass selective detection (GC-MSD) with limits of quantitation (LOQ) of <0.01. The method is adequate for collecting data and enforcing tolerances for quinoxyfen residues in/on the subject crops. Contact: Sidney Jackson, (703) 305-7610, jackson.sidney@epa.gov.

2. PP 8E7341. (EPA-HQ-OPP-2008-0361). IR-4, 500 College Rd. East, Suite 201W, Princeton, NJ 08540, proposes to establish a tolerance for the combined residues of the herbicide cyhalofop (cyhalofop-butyl, R-(+)-n-butyl-2-(4(4-cyano-2-fluorophenoxy)-phenoxy)propionate, plus cyhalofop acid, R-(+)-2-(4(4-cyano-2-fluorophenoxy)-phenoxy)propionicacid) and the di-acid metabolite, (2R)-4-[4-(1-carboxyethoxy)phenoxy]-3-fluorobenzoic acid in or on food commodity rice, wild, grain at 0.03 ppm. An adequate analytical method is available for enforcement purposes; the method has been developed and validated to determine the residues of cyhalofop-butyl, cyhalofop (acid form) and the diacid metabolite in rice grain, straw and processed products. The method was based on capillary gas chromatography with mass selective detection. Contact: Sidney Jackson, (703) 305-7610, jackson.sidney@epa.gov.

3. PP 7F7279. (EPA-HQ-OPP-2008-0327). Bayer CropScience, P.O. Box 12014, 2 T.W. Alexander Dr., Research Triangle Park, NC 27709, proposes to establish a tolerance for residues of the fungicide prothioconazole in or on food commodity wheat, forage at 8.0 ppm. The analytical method for determining residues of concern in plants extracts residues of prothioconazole and JAU6476-desthio and converts the prothioconazole to JAU6476-desthio and JAU6476-sulfonic acid. Following addition of internal standards the sample extracts are analyzed by liquid chromatography/mass spectrometry (LC/MS/MS). Radiovalidation and independent laboratory validation have shown that the method adequately quantifies prothioconazole residues in treated commodities. The analytical method for analysis of large animal tissues includes extraction of the residues of concern, followed by addition of an internal standard to the extract. The extract is then hydrolyzed to release conjugates, partitioned and analyzed by LC/MS/MS as prothioconazole, JAU6476-desthio and JAU6476-4-hydroxy. The method for analysis of milk eliminated the initial extraction step in the tissue method. Contact: Bryant Crowe, (703) 305-0025, crowe.bryant@epa.gov.

4. PP 8F7335. (EPA-HQ-OPP-2008-0322). Bayer CropScience, P.O. Box 12014, 2 T.W. Alexander Dr., Research Triangle Park, NC 27709, proposes to establish a tolerance for residues of the insecticide tebupirimphos; [O-[2-(1,1-dimethylethyl)-5-pyrimidinyl] O-ethyl O-(1-methylethyl) phosphorothioate in or on food commodities corn, field, forage at 0.01 ppm; corn, field, stover at 0.01 ppm; corn, pop, forage at 0.01 ppm; corn, pop, stover at 0.01 ppm; corn, sweet, forage at 0.01 ppm; corn, sweet, stover at 0.01 ppm; corn, field, grain at 0.01 ppm; corn, pop, grain at 0.01 ppm; corn, sweet, kernel plus cob with husks removed at 0.01 ppm. Adequate validated analytical methodology is available for enforcement purposes. Contact: Marilyn Mautz, (703) 305-6785, mautz.marilyn@epa.gov.

5. PP 8F7343. (EPA-HQ-OPP-2008-0360). Nichino America, Inc. (NAI), 4550 New Linden Hill Rd., Suite 501, Wilmington, DE 19808, proposes to establish a tolerance for residues of the insecticide buprofezin in or on food commodity Brassica, head and stem, subgroup 5A at 7.0 ppm. The proposed analytical method involves extraction, partition, clean-up and detection of residues by gas chromatography using nitrogen phosphorous detection. Contact: Melody Banks, (703) 305-5413, banks.melody@epa.gov.

B. Amendment to Existing Tolerance

PP 8E7325. (EPA-HQ-OPP-2008-0362). IR-4, 500 College Road East, Suite 201W, Princeton, NJ 08540, proposes, upon approval of the aforementioned tolerance for fruit, stone, group 12 in Unit III.A.1., to amend remove the established tolerances for the residues of the fungicide quinoxyfen, 5,7-dichloro-4-(4-fluorophenoxy)quinoline in 40 CFR 180.588 (a) in or on the food commodities cherry, sweet at 0.3 parts per million (ppm) and cherry, tart at 0.3 ppm. Contact: Sidney Jackson, (703) 305-7610, jackson.sidney@epa.gov.

C. New Exemption From Tolerance

1. PP 8E7332. (EPA-HQ-OPP-2008-0346). Bayer CropScience, P.O. Box 12014, 2 T.W. Alexander Dr., Research Triangle Park, NC 27709, proposes to establish amend 40 CFR part 180 by establishing an exemption from the requirement of a tolerance under 40 CFR 180.920 for residues of the triethanolamine (TEA)(CAS Reg. No. 102-71-6) when used as a pesticide inert ingredient stabilizer at no more than 2% in pesticide formulations that are used for post-emergence treatment on small grain cereal crops before the edible parts of the plant consumed by humans are exposed. Because this petition is a request for an exemption from the requirement of a tolerance, no analytical method is required. Contact: Karen Samek, (703) 347-8825, samek.karen@epa.gov.

2. PP 8E7333. (EPA-HQ-OPP-2008-0059). Whitmire Micro-Gen c/o Landis International, Inc., P.O. Box 5126, Valdosta, GA 31603-5126, proposes to amend 40 CFR part 180 by establishing an exemption from the requirement of a tolerance under 40 CFR 180.930 for residues of the potassium benzoate (CAS Reg. No. 582-25-2) when used as a pesticide inert ingredient in a pesticide product when used in accordance with good agricultural practice as a preservative in pesticide formulations applied to animals. Because this petition is a request for an exemption from the requirement of a tolerance, no analytical method is required. Contact: Karen Samek, (703) 347-8825, samek.karen@epa.gov.

3. PP 7F7311. (EPA-HQ-OPP-2008-0093). SynTech Global LLC on behalf of BioNext sprl, Passage des deportes, 2, B-5030 Gembloux, Belgium, proposes to establish amend 40 part CFR 180 by establishing an exemption from the requirement of a tolerance for residues of the calcium lactate pentahydrate (CAS Reg. No. 5743-47-5) on stored apples and pears when used as a pesticide inert ingredient in pesticide formulations of the active ingredient Candida oleophila strain O, as a post-harvest treatment to control Botrytis cinerea (grey mold) and Penicillium expansum (blue mold). Because this petition is a request for an exemption from the requirement of a tolerance, no analytical method is required. Contact: Karen Samek, (703) 347-8825, samek.karen@epa.gov.

List of Subjects

Environmental protection, Agricultural commodities, Feed additives, Food additives, Pesticides and pests, Reporting and recordkeeping requirements.

Dated: May 19, 2008.
Lois Rossi,
Director, Registration Division, Office of Pesticide Programs.

[FR Doc. E8-12249 Filed 6-3-08; 8:45 am]

BILLING CODE 6560-50-S